DEPARTMENT OF HEALTH AND HUMAN SERVICES

Administration for Children and Families

Submission for OMB Review; Comment Request

Title: Effective and Innovative Practices in Child Abuse and Neglect Prevention.

OMB No.: New collection.

Description: With increasing understanding and recognition of the individual and family risk factors that increase the likelihood of child maltreatment, particularly since the 1990s, the role and importance of prevention has been vigorously promoted. The development, funding, and implementation of programs and initiatives with a specific focus on the prevention of child maltreatment, as a consequence, has blossomed.

Child abuse and neglect prevention today includes a broad spectrum of programs and services, including parent education, home visitation, respite care, support groups, mentoring, child personal safety education, family resource centers, media campaigns, and policy advocacy campaigns. Programs may target the general population with the goal of facilitating prevention through awareness, and/or may target specific populations at risk for child abuse/neglect with the goal of ameliorating the factors placing them at risk. However, the precise nature of these efforts—and their effectiveness—is not yet well understood, and information has not been systematically documented. As programs have proliferated in both type and number, the need for information on program effectiveness becomes more acute.

Data collection for this project will rely on a nomination process that will identify programs and initiatives operating around the country in two major categories, including (1) Effective programs, which demonstrate or report positive prevention outcomes using experimental or quasi-experimental research methods and (2) Innovative programs, which have overcome a critical challenge or obstacle using a particularly creative method or approach. By identifying and showcasing effective and innovative practices, this project will disseminate critical information to local jurisdictions that are making decisions about allocating and/or targeting resources for program development and implementation.

Respondents: The universe of potential nominations consists of the child abuse and neglect professional community in its entirety, which includes practitioners, service providers, policy makers in state and local agencies, researchers, advocates, and other affiliated parties. A nomination instrument has been designed, with input from a diverse group of experts, that specifies rules and provides detailed guidance on procedures for submission.

Annual Burden Estimates
Instrument | Number of respondents | Number of responses per respondent | Average burden hours per response | Total burden hours
Track 1 Nominations: Effective Programs | 10-30 | 1 | 6 | 60-180
Track II Nominations: Innovative Programs | 150-200 | 1 | 4 | 600-800
Estimated Total Annual Burden Hours |  |  |  | 660-980

Additional Information: Copies of the proposed collection may be obtained by writing to The Administration for Children and Families, Office of Information Services, 370 L'Enfant Promenade, SW., Washington, DC 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF.

Dated: February 6, 2002.
Bob Sargis,
Reports Clearance Officer.

[FR Doc. 02-3353 Filed 2-11-02; 8:45 am]

BILLING CODE 4184-01-M